DEPARTMENT OF DEFENSE

GENERAL SERVICES ADMINISTRATION

NATIONAL AERONAUTICS AND SPACE ADMINISTRATION

48 CFR Ch. 1

Semiannual Regulatory Agenda

AGENCY: Department of Defense (DoD), General Services Administration (GSA), and National Aeronautics and Space Administration (NASA).

ACTION: Semiannual regulatory agenda.

SUMMARY: This agenda provides summary descriptions of regulations being developed by the Civilian Agency Acquisition Council and the Defense Acquisition Regulations Council in compliance with Executive Order 12866 “Regulatory Planning and Review.” This agenda is being published to allow interested persons an opportunity to participate in the rulemaking process. The Regulatory Secretariat Division has attempted to list all regulations pending at the time of publication, except for minor and routine or repetitive actions; however, unanticipated requirements may result in the issuance of regulations that are not included in this agenda. There is no legal significance to the omission of an item from this listing. Also, the dates shown for the steps of each action are estimated and are not commitments to act on or by the dates shown.

Published proposed rules may be reviewed in their entirety at the Government's rulemaking Web site at http://www.regulations.gov.

FOR FURTHER INFORMATION CONTACT: Hada Flowers, Director, Regulatory Secretariat Division, 1800 F Street NW., 2nd Floor, Washington, DC 20405-0001, 202-501-4755.

SUPPLEMENTARY INFORMATION: DoD, GSA, and NASA, under their several statutory authorities, jointly issue and maintain the FAR through periodic issuance of changes published in the Federal Register and produced electronically as Federal Acquisition Circulars (FACs).

The electronic version of the FAR, including changes, can be accessed on the FAR Web site at http://www.acquisition.gov/far.

Dated: October 7, 2015.
William Clark,
Director, Office of Government-wide Acquisition Policy, Office of Acquisition Policy, Office of Government-wide Policy.

DOD/GSA/NASA (FAR)—Proposed Rule Stage
Sequence No. | Title | Regulation Identifier No.
407 | Federal Acquisition Regulation (FAR); FAR Case 2015-014; Prohibition on Providing Funds to the Enemy | 9000-AN03
408 | Federal Acquisition Regulation; FAR Case 2015-020, Simplified Acquisition Threshold for Overseas Acquisitions in Support of Humanitarian or Peacekeeping Operations | 9000-AN09

DOD/GSA/NASA (FAR)—Final Rule Stage
Sequence No. | Title | Regulation Identifier No.
409 | Federal Acquisition Regulation (FAR); FAR Case 2011-001; Organizational Conflicts of Interest and Unequal Access to Information | 9000-AL82
410 | Federal Acquisition Regulation (FAR); FAR Case 2010-013; Privacy Training | 9000-AM02
411 | Federal Acquisition Regulation (FAR); FAR Case 2011-020; Basic Safeguarding of Contractor Information Systems | 9000-AM19
412 | Federal Acquisition Regulation (FAR); FAR Case 2013-015; Pilot Program for Enhancement of Contractor Employee Whistleblower Protections | 9000-AM56
413 | Federal Acquisition Regulation (FAR); FAR Case 2012-022; Contracts Under the Small Business Administration 8(a) Program | 9000-AM68
414 | Federal Acquisition Regulation (FAR); FAR Case 2013-020; Information on Corporate Contractor Performance and Integrity | 9000-AM74
415 | Federal Acquisition Regulation (FAR); FAR Case 2014-012; Limitation on Allowable Government Contractor Compensation Costs | 9000-AM75
416 | Federal Acquisition Regulation (FAR); FAR Case 2014-025; Fair Pay and Safe Workplaces | 9000-AM81
417 | Federal Acquisition Regulation (FAR); FAR Case 2015-003; Establishing a Minimum Wage for Contractors | 9000-AM82
418 | Federal Acquisition Regulation (FAR); FAR Case 2014-026; High Global Warming Potential Hydrofluorocarbons | 9000-AM87
419 | Federal Acquisition Regulation (FAR); FAR Case 2014-003; Small Business Subcontracting Improvements | 9000-AM91
420 | Federal Acquisition Regulation (FAR); FAR Case 2014-015; Consolidation and Bundling of Contract Requirements | 9000-AM92
421 | Federal Acquisition Regulation (FAR); FAR Case 2015-012; Contractor Employee Internal Confidentiality Agreements | 9000-AN04
422 | Federal Acquisition Regulation (FAR); FAR Case 2015-011; Prohibition on Contracting With Corporations With Delinquent Taxes or a Felony Conviction | 9000-AN05
423 | Federal Acquisition Regulation (FAR); FAR Case 2015-032, Sole Source Contracts for Women-Owned Small Businesses | 9000-AN13

DOD/GSA/NASA (FAR)—Completed Actions
Sequence No. | Title | Regulation Identifier No.
424 | Federal Acquisition Regulation (FAR); FAR Case 2013-016; EPEAT Items | 9000-AM71
425 | Federal Acquisition Regulation (FAR); FAR Case 2014-022; Inflation Adjustment of Acquisition—Related Thresholds | 9000-AM80
426 | Federal Acquisition Regulation (FAR); FAR Case 2014-020; Clarification on Justification for Urgent Noncompetitive Awards Exceeding One Year | 9000-AM86

DEPARTMENT OF DEFENSE/GENERAL SERVICES ADMINISTRATION/NATIONAL AERONAUTICS AND SPACE ADMINISTRATION (FAR)

Proposed Rule Stage

407. Federal Acquisition Regulation (FAR); FAR Case 2015-014; Prohibition on Providing Funds to the Enemy

Legal Authority: 40 U.S.C. 121(c); 10 U.S.C. ch 137; 51 U.S.C. 20113

Abstract: DoD, GSA, and NASA are proposing to amend the Federal Acquisition Regulation (FAR) to implement subtitle E of title VIII of the Carl Levin and Howard P. `Buck' McKeon National Defense Authorization Act (NDAA) for fiscal year (FY) 2015, which prohibits providing funds to the enemy. It also provides additional access to records to the extent necessary to ensure that funds available under the contract are not made available to the enemy.

Timetable:

Action | Date | FR Cite
NPRM | 02/00/16 |

Regulatory Flexibility Analysis Required: Yes.

Agency Contact: Cecelia L Davis, Procurement Analyst, DOD/GSA/NASA (FAR), 1800 F Street NW., Washington, DC 20405, Phone: 202 219-0202, Email: cecelia.davis@gsa.gov.

RIN: 9000-AN03

408. • Federal Acquisition Regulation; FAR Case 2015-020, Simplified Acquisition Threshold for Overseas Acquisitions in Support of Humanitarian or Peacekeeping Operations

Legal Authority: 40 U.S.C. 121(c); 10 U.S.C. chapter 137; 51 U.S.C. 20113

Abstract: DoD, GSA, and NASA are proposing to amend the Federal Acquisition Regulation (FAR) to implement 41 U.S.C. 153, which establishes a higher simplified acquisition threshold for overseas acquisitions in support of humanitarian or peacekeeping operations.

Timetable:

Action | Date | FR Cite
NPRM | 10/08/15 | 80 FR 60832
NPRM Comment Period End | 12/07/15 |
Final Rule | 03/00/16 |

Regulatory Flexibility Analysis Required: Yes.

Agency Contact: Kathy Hopkins, Procurement Analyst, DOD/GSA/NASA (FAR), 1800 F Street NW., Washington, DC 20405, Phone: 202 969-7226, Email: kathlyn.hopkins@gsa.gov.

RIN: 9000-AN09

DEPARTMENT OF DEFENSE/GENERAL SERVICES ADMINISTRATION/NATIONAL AERONAUTICS AND SPACE ADMINISTRATION (FAR)

Final Rule Stage

409. Federal Acquisition Regulation (FAR); FAR Case 2011-001; Organizational Conflicts of Interest and Unequal Access to Information

Legal Authority: 40 U.S.C. 121(c); 10 U.S.C. ch 137; 51 U.S.C. 20113

Abstract: DoD, GSA, and NASA is issuing a final rule amending the Federal Acquisition Regulation (FAR) to provide revised regulatory coverage on organizational conflicts of interest (OCIs), and add related provisions and clauses. Coverage on contractor access to protected information has been moved to a new proposed rule, FAR Case 2012-029 now FAR Case 2014-021. Section 841 of the Duncan Hunter National Defense Authorization Act for Fiscal Year 2009 (Pub. L. 110-417) required a review of the FAR coverage on OCIs. The proposed rule was developed as a result of a review conducted in accordance with section 841 by the Civilian Agency Acquisition Council, the Defense Acquisition Regulations Council, and the Office of Federal Procurement Policy, in consultation with the Office of Government Ethics. The proposed rule was preceded by an Advance Notice of Proposed Rulemaking, under FAR Case 2007-018 (73 FR 15962), to gather comments from the public with regard to whether and how to improve the FAR coverage on OCIs. This case is included in the FAR retrospective review of existing regulations under Executive Order 13563. Additional information is located in the FAR final plan (2015), available at: https://www.acquisition.gov/.

Timetable:

Action | Date | FR Cite
NPRM | 04/26/11 | 76 FR 23236
NPRM Comment Period End | 06/27/11 |
NPRM Comment Period Extended | 06/29/11 | 76 FR 38089
NPRM Comment Period Extended End | 07/27/11 |
Final Rule | 03/00/16 |

Regulatory Flexibility Analysis Required: Yes.

Agency Contact: Cecelia L Davis, Procurement Analyst, DOD/GSA/NASA (FAR), 1800 F Street NW., Washington, DC 20405, Phone: 202 219-0202, Email: cecelia.davis@gsa.gov.

RIN: 9000-AL82

410. Federal Acquisition Regulation (FAR); FAR Case 2010-013; Privacy Training

Legal Authority: 40 U.S.C. 121(c); 10 U.S.C. ch 137; 51 U.S.C. 20113

Abstract: DoD, GSA, and NASA is issuing a final rule to amend the Federal Acquisition Regulation (FAR) to ensure that all contractors are required to complete training in the protection of privacy and the handling and safeguarding of Personally Identifiable Information (PII). The proposed FAR language provides flexibility for agencies to conduct the privacy training or require the contractor to conduct the privacy training. This case is included in the FAR retrospective review of existing regulations under Executive Order 13563. Additional information is located in the FAR final plan (2015), available at: https://www.acquisition.gov/.

Timetable:

Action | Date | FR Cite
NPRM | 10/14/11 | 76 FR 63896
NPRM Comment Period End | 12/13/11 |
Final Rule | 02/00/16 |

Regulatory Flexibility Analysis Required: Yes.

Agency Contact: Charles Gray, Procurement Analyst, DOD/GSA/NASA (FAR), 1800 F Street NW., Washington, DC 20405, Phone: 202 208-6726.

RIN: 9000-AM02

411. Federal Acquisition Regulation (FAR); FAR Case 2011-020; Basic Safeguarding of Contractor Information Systems

Legal Authority: 40 U.S.C. 121(c); 10 U.S.C. ch 137; 51 U.S.C. 20113

Abstract: DoD, GSA, and NASA are issuing a final rule amending the Federal Acquisition Regulation (FAR) to add a new subpart and contract clause for the basic safeguarding of contractor information systems that contain, transmit, or process Federal contract information. This case is included in the FAR retrospective review of existing regulations under Executive Order 13563. Additional information is located in the FAR final plan (2015), available at: https://www.acquisition.gov/.

Timetable:

Action | Date | FR Cite
NPRM | 07/26/12 | 77 FR 51496
NPRM Comment Period End | 10/23/12 |
Final Rule | 02/00/16 |

Regulatory Flexibility Analysis Required: Yes.

Agency Contact: Cecelia L Davis, Procurement Analyst, DOD/GSA/NASA (FAR), 1800 F Street NW., Washington, DC 20405, Phone: 202 219-0202, Email: cecelia.davis@gsa.gov.

RIN: 9000-AM19

412. Federal Acquisition Regulation (FAR); FAR Case 2013-015; Pilot Program for Enhancement of Contractor Employee Whistleblower Protections

Legal Authority: 40 U.S.C. 121(c); 10 U.S.C. ch 137; 51 U.S.C. 20113

Abstract: DoD, GSA, and NASA is issuing a final rule of the Federal Acquisition Regulation to implement a statutory pilot program whistleblower protections for enhancement of contractor employee.

Timetable:

Action | Date | FR Cite
Interim Final Rule | 09/30/13 | 78 FR 60169
Interim Final Rule Comment Period End | 11/29/13 |
Final Rule | 12/00/15 |

Regulatory Flexibility Analysis Required: Yes.

Agency Contact: Cecelia L Davis, Procurement Analyst, DOD/GSA/NASA (FAR), 1800 F Street NW., Washington, DC 20405, Phone: 202 219-0202, Email: cecelia.davis@gsa.gov.

RIN: 9000-AM56

413. Federal Acquisition Regulation (FAR); FAR Case 2012-022; Contracts Under the Small Business Administration 8(A) Program

Legal Authority: 40 U.S.C. 121(c); 10 U.S.C. ch 137; 51 U.S.C. 20113

Abstract: DoD, GSA, and NASA is issuing a final rule to amend the Federal Acquisition Regulation (FAR) to implement revisions made by the Small Business Administration to its regulations implementing section 8(a) of the Small Business Act, and to provide additional FAR coverage regarding protesting an 8(a) participant's eligibility or size status, procedures for releasing a requirement for non-8(a) procurements, and the ways a participant could exit the 8(a) Business Development program.

Timetable:

Action | Date | FR Cite
NPRM | 02/03/14 | 79 FR 6135
NPRM Comment Period End | 04/14/14 |
Final Rule | 01/00/16 |

Regulatory Flexibility Analysis Required: Yes.

Agency Contact: Mahruba Uddowla, Procurement Analyst, DOD/GSA/NASA (FAR), 1800 F Street NW., Washington, DC 20405, Phone: 703 605-2868, Email: mahruba.uddowla@gsa.gov.

RIN: 9000-AM68

414. Federal Acquisition Regulation (FAR); FAR Case 2013-020; Information on Corporate Contractor Performance and Integrity

Legal Authority: 40 U.S.C. 121(c); 10 U.S.C. ch 137; 51 U.S.C. 20113

Abstract: DoD, GSA, and NASA is issuing a final rule amending the Federal Acquisition Regulation to implement a section of the National Defense Authorization Act for Fiscal Year 2013 to include in the Federal Awardee Performance and Integrity Information System, to the extent practicable, identification of any immediate owner or subsidiary, and all predecessors of an offeror that held a Federal contract or grant within the last three years. The objective is to provide a more comprehensive understanding of the performance and integrity of the corporation in awarding Federal contracts.

Timetable:

Action | Date | FR Cite
NPRM | 12/04/14 | 79 FR 71975
NPRM Comment Period End | 02/02/15 |
Final Rule | 01/00/16 |

Regulatory Flexibility Analysis Required: Yes.

Agency Contact: Cecelia L Davis, Procurement Analyst, DOD/GSA/NASA (FAR), 1800 F Street NW., Washington, DC 20405, Phone: 202 219-0202, Email: cecelia.davis@gsa.gov.

RIN: 9000-AM74

415. Federal Acquisition Regulation (FAR); FAR Case 2014-012; Limitation on Allowable Government Contractor Compensation Costs

Legal Authority: 40 U.S.C. 121(c); 10 U.S.C. ch 137; 51 U.S.C. 20113

Abstract: DoD, GSA and NASA is issuing a final rule amending the Federal Acquisition Regulation to implement section 702 of the Bipartisan Budget Act of 2013. In accordance with section 702, the interim rule revises the allowable cost limit relative to the compensation of contractor and subcontractor employees. Also, in accordance with section 702, this interim rule implements the possible exception to this allowable cost limit for narrowly targeted scientists, engineers, or other specialists upon an agency determination that such exceptions are needed to ensure that the executive agency has continued access to needed skills and capabilities.

Timetable:

Action | Date | FR Cite
Interim Final Rule | 06/24/14 | 79 FR 35865
Interim Final Rule Comment Period End | 08/25/14 |
Final Rule | 01/00/16 |

Regulatory Flexibility Analysis Required: Yes.

Agency Contact: Kathy Hopkins, Procurement Analyst, DOD/GSA/NASA (FAR), 1800 F Street NW., Washington, DC 20405, Phone: 202 969-7226, Email: kathlyn.hopkins@gsa.gov.

RIN: 9000-AM75

416. Federal Acquisition Regulation (FAR); FAR Case 2014-025; Fair Pay and Safe Workplaces

Legal Authority: 40 U.S.C. 121(c); 10 U.S.C. ch 137; 51 U.S.C. 20113

Abstract: DoD, GSA, and NASA is issuing a final rule amending the Federal Acquisition Regulation which implements Executive Order 13673, Fair Pay and Safe Workplaces, seeks to increase efficiency in the work performed by Federal contractors by ensuring that they understand and comply with labor laws designed to promote safe, healthy, fair and effective workplaces.

Timetable:

Action | Date | FR Cite
NPRM | 05/28/15 | 80 FR 30548
NPRM Comment Period End | 07/27/15 |
NPRM Comment Period Extended | 07/14/15 | 80 FR 40968
NPRM Comment Period End | 08/11/15 |
NPRM Comment Period Extended | 08/05/15 | 80 FR 46531
NPRM Comment Period End | 08/26/15 |
Final Rule | 04/00/16 |

Regulatory Flexibility Analysis Required: Yes.

Agency Contact: Edward Loeb, Program Manager, DOD/GSA/NASA (FAR), 1800 F Street NW., Washington, DC 20405, Phone: 202 501-0650, Email: edward.loeb@gsa.gov.

RIN: 9000-AM81

417. Federal Acquisition Regulation (FAR); FAR Case 2015-003; Establishing a Minimum Wage for Contractors

Legal Authority: 40 U.S.C. 121(c); 10 U.S.C. ch 137; 51 U.S.C. 20113

Abstract: DoD, GSA, and NASA is issuing a final rule amending the Federal Acquisition Regulation (FAR) to implement Executive Order 13658, Establishing a Minimum Wage for Contractors, and a final rule issued by the Department of Labor (DOL) at 29 CFR part 10. This case is included in the FAR retrospective review of existing regulations under Executive Order 13563. Additional information is located in the FAR final plan (2015), available at: https://www.acquisition.gov/.

Timetable:

Action | Date | FR Cite
Interim Final Rule | 12/15/14 | 79 FR 74544
Interim Final Rule Comment Period End | 02/13/15 |
Final Rule | 11/00/15 |

Regulatory Flexibility Analysis Required: Yes.

Agency Contact: Edward Loeb, Program Manager, DOD/GSA/NASA (FAR), 1800 F Street NW., Washington, DC 20405, Phone: 202 501-0650, Email: edward.loeb@gsa.gov.

RIN: 9000-AM82

418. Federal Acquisition Regulation (FAR); FAR Case 2014-026; High Global Warming Potential Hydrofluorocarbons

Legal Authority: 40 U.S.C. 121(c); 10 U.S.C. ch 137; 51 U.S.C. 20113

Abstract: DoD, GSA, and NASA is issuing a final rule to amend the Federal Acquisition Regulation (FAR) to implement Executive Branch policy in the President's Climate Action Plan to procure, when feasible, alternatives to high global warming potential (GWP) hydrofluorocarbons (HFCs). This will allow agencies to better meet the greenhouse gas emission reduction goals and reporting requirements of the Executive Order 13693 of March 25, 2015, Planning for Sustainability in the Next Decade. Executive Order 13693 subsumes both Executive Order 13423 of January 24, 2007, Strengthening Federal Environmental, Energy, and Transportation Management as well as Executive Order 13514 of October 5, 2009, Federal Leadership in Environmental, Energy, and Economic Performance.

Timetable:

Action | Date | FR Cite
NPRM | 05/11/15 | 80 FR 26883
NPRM Comment Period End | 07/10/15 |
Final Rule | 12/00/15 |

Regulatory Flexibility Analysis Required: Yes.

Agency Contact: Charles Gray, Procurement Analyst, DOD/GSA/NASA (FAR), 1800 F Street NW., Washington, DC 20405, Phone: 202 208-6726.

RIN: 9000-AM87

419. Federal Acquisition Regulation (FAR); FAR Case 2014-003; Small Business Subcontracting Improvements

Legal Authority: 40 U.S.C. 121(c); 10 U.S.C. ch 137; 51 U.S.C. 20113

Abstract: DoD, GSA, and NASA is issuing a final rule to amend the Federal Acquisition Regulation (FAR) to implement regulatory changes made by the Small Business Administration (SBA) in its final rule, concerning small business subcontracting. Among other things, SBA's final rule implements the statutory requirements set forth at sections 1321 and 1322 of the Small Business Jobs Act of 2010. This case is included in the FAR retrospective review of existing regulations under Executive Order 13563. Additional information is located in the FAR final plan (2015), available at: https://www.acquisition.gov/.

Timetable:

Action | Date | FR Cite
NPRM | 06/10/15 | 80 FR 32909
NPRM Comment Period End | 08/10/15 |
Final Rule | 01/00/16 |

Regulatory Flexibility Analysis Required: Yes.

Agency Contact: Mahruba Uddowla, Procurement Analyst, DOD/GSA/NASA (FAR), 1800 F Street NW., Washington, DC 20405, Phone: 703 605-2868, Email: mahruba.uddowla@gsa.gov.

RIN: 9000-AM91

420. Federal Acquisition Regulation (FAR); FAR Case 2014-015; Consolidation and Bundling of Contract Requirements

Legal Authority: 40 U.S.C. 121(c); 10 U.S.C. ch 137; 51 U.S.C. 20113

Abstract: DoD, GSA, and NASA is issuing a final rule to amend the Federal Acquisition Regulation (FAR) to implement sections 1312 and 1313 of the Small Business Jobs Act of 2010 and Small Business Administration's final rule to ensure that decisions made by Federal agencies regarding consolidation of contract requirements are made with a view to providing small businesses with appropriate opportunities to participate as prime and subcontractors. This case is included in the FAR retrospective review of existing regulations under Executive Order 13563. Additional information is located in the FAR final plan (2015), available at: https://www.acquisition.gov/.

Timetable:

Action | Date | FR Cite
NPRM | 06/03/15 | 80 FR 31561
NPRM Comment Period End | 08/03/15 |
Final Rule | 02/00/16 |

Regulatory Flexibility Analysis Required: Yes.

Agency Contact: Mahruba Uddowla, Procurement Analyst, DOD/GSA/NASA (FAR), 1800 F Street NW., Washington, DC 20405, Phone: 703 605-2868, Email: mahruba.uddowla@gsa.gov.

RIN: 9000-AM92

421. Federal Acquisition Regulation (FAR); FAR Case 2015-012; Contractor Employee Internal Confidentiality Agreements

Legal Authority: 40 U.S.C. 121(c); 10 U.S.C. ch 137; 51 U.S.C. 20113

Abstract: This interim rule revises the Federal Acquisition Regulation to implement section 743 of Division E, title VII, of the Consolidated and Further Continuing Appropriations Act of 2015 (Pub. L. 113-235) and successor provisions in subsequent appropriations acts (and as extended in continuing resolutions). Section 743 prohibits the use of funds appropriated or otherwise made available by division E or any other Act for a contract, grant, or cooperative agreement with an entity that requires employees or subcontractors of such entity seeking to report fraud, waste, or abuse to sign internal confidentiality agreements or statements prohibiting or otherwise restricting such employees or subcontractors from lawfully reporting such waste, fraud, or abuse to a designated investigative or law enforcement representative of a Federal department or agency authorized to receive such information.

Timetable:

Action | Date | FR Cite
Interim Final Rule | 01/00/16 |

Regulatory Flexibility Analysis Required: Yes.

Agency Contact: Cecelia L Davis, Procurement Analyst, DOD/GSA/NASA (FAR), 1800 F Street NW., Washington, DC 20405, Phone: 202 219-0202, Email: cecelia.davis@gsa.gov.

RIN: 9000-AN04

422. Federal Acquisition Regulation (FAR); FAR Case 2015-011; Prohibition on Contracting With Corporations With Delinquent Taxes or a Felony Conviction

Legal Authority: 40 U.S.C. 121(c); 10 U.S.C. ch 137; 51 U.S.C. 20113

Abstract: DoD, GSA, and NASA are issuing an interim rule amending the Federal Acquisition Regulation (FAR) to implement sections of the Consolidated and Further Continuing Appropriations Act, 2015, to prohibit the Federal Government from entering into a contract with any corporation having a delinquent Federal tax liability or a felony conviction under any Federal law, unless the agency has considered suspension or debarment of the corporation and has made a determination that this further action is not necessary to protect the interests of the Government.

Timetable:

Action | Date | FR Cite
Interim Final Rule | 12/00/15

Regulatory Flexibility Analysis Required: Yes.

Agency Contact: Cecelia L Davis, Procurement Analyst, DOD/GSA/NASA (FAR), 1800 F Street NW., Washington, DC 20405, Phone: 202 219-0202, Email: cecelia.davis@gsa.gov.

RIN: 9000-AN05

423. • Federal Acquisition Regulation (FAR); FAR Case 2015-032, Sole Source Contracts For Women—Owned Small Businesses

Legal Authority: 40 U.S.C. 121(c); 10 U.S.C. ch 137; 51 U.S.C. 20113

Abstract: DoD, GSA, and NASA are issuing an interim rule amending the Federal Acquisition Regulation (FAR) to implement regulatory changes made by the Small Business Administration, which provide for authority to award sole source contracts to economically disadvantaged women-owned small business concerns and to women-owned small business concerns eligible under the Women-Owned Small Business Program.

Timetable:

Action | Date | FR Cite
Interim Final Rule | 12/00/15

Regulatory Flexibility Analysis Required: Yes.

Agency Contact: Mahruba Uddowla, Procurement Analyst, DOD/GSA/NASA (FAR), 1800 F Street NW., Washington, DC 20405, Phone: 703 605-2868.

RIN: 9000-AN13

DEPARTMENT OF DEFENSE/GENERAL SERVICES ADMINISTRATION/NATIONAL AERONAUTICS AND SPACE ADMINISTRATION (FAR)

Completed Actions

424. Federal Acquisition Regulation (FAR); FAR Case 2013-016; EPEAT Items

Legal Authority: 40 U.S.C. 121(c); 10 U.S.C. ch 137; 51 U.S.C. 20113

Abstract: DoD, GSA, and NASA is issuing a final rule amending the Federal Acquisition Regulation to implement changes in the Electronic Product Environmental Assessment Tool (EPEAT®) registry.

Completed:

Reason | Date | FR Cite
Final Rule | 09/03/15 | 80 FR 53436
Final Rule Effective | 10/05/15

Regulatory Flexibility Analysis Required: Yes.

Agency Contact: Charles Gray, Phone: 202 208-6726.

RIN: 9000-AM71

425. Federal Acquisition Regulation (FAR); FAR Case 2014-022; Inflation Adjustment of Acquisition—Related Thresholds

Legal Authority: 40 U.S.C. 121(c); 10 U.S.C. ch 137; 51 U.S.C. 20113

Abstract: DoD, GSA, and NASA issued a final rule to amend the Federal Acquisition Regulation (FAR) to further implement 41 U.S.C. 1908, Inflation adjustment of acquisition-related dollar thresholds. This statute requires an adjustment every five years of acquisition-related thresholds for inflation using the Consumer Price Index for all urban consumers, except for the Construction Wage Rate Requirements statute (Davis-Bacon Act), Service Contract Labor Standards statute, and trade agreements thresholds. DoD, GSA, and NASA are also proposing to use the same methodology to adjust nonstatutory FAR acquisition-related thresholds in 2015.

Completed:

Reason | Date | FR Cite
Final Rule | 07/02/15 | 80 FR 38293
Correction | 09/08/15 | 80 FR 53753
Final Rule Effective | 10/01/15

Regulatory Flexibility Analysis Required: Yes.

Agency Contact: Michael O Jackson, Phone: 202 208-4949, Email: michaelo.jackson@gsa.gov.

RIN: 9000-AM80

426. Federal Acquisition Regulation (FAR); FAR Case 2014-020; Clarification on Justification for Urgent Noncompetitive Awards Exceeding One Year

Legal Authority: 40 U.S.C. 121(c); 10 U.S.C. ch 137; 51 U.S.C. 20113

Abstract: DoD, GSA, and NASA are proposing to amend the Federal Acquisition Regulation to clarify that a determination of exceptional circumstances is needed when a noncompetitive contract awarded on the basis of unusual and compelling urgency exceeds one year, either at time of award or due to post-award modifications.

Completed:

Reason | Date | FR Cite
Final Rule | 07/02/15 | 80 FR 38308
Final Rule Effective | 08/03/15

Regulatory Flexibility Analysis Required: Yes.

Agency Contact: Michael O Jackson, Phone: 202 208-4949, Email: michaelo.jackson@gsa.gov.

RIN: 9000-AM86

[FR Doc. 2015-30666 Filed 12-14-15; 8:45 am]

BILLING CODE 6820-EP-P